BUREAU OF CONSUMER FINANCIAL PROTECTION

Agency Information Collection Activities: Submission for OMB Review; Comment Request

Agency: Bureau of Consumer Financial Protection.

ACTION: Notice and request for comments.

SUMMARY: The Bureau of Consumer Financial Protection (Bureau), as part of its continuing effort to reduce paperwork and respondent burden, invites the general public and other Federal agencies to take this opportunity to comment on a proposed information collection, as required by the Paperwork Reduction Act of 1995. The Bureau is soliciting comments concerning the information collection efforts relating to the collection titled, “CFPB Office of Intergovernmental Affairs Outreach Activities.” The proposed collection has been submitted to the Office of Management and Budget (OMB) for review and approval. A copy of the submission, including copies of the proposed collection and supporting documentation, may be obtained by contacting the agency contact listed below.

DATES: Written comments are encouraged and must be received on or before September 24, 2012 to be assured of consideration.

ADDRESSES: You may submit comments, identified by “Consumer Financial Protection Bureau” and the collection title below, to:

• Agency: Consumer Financial Protection Bureau (Attention: PRA Office), 1700 G Street NW., Washington, DC 20552; (202) 435-9011; and CFPB_Public_PRA@cfpb.gov.

• OMB: Shagufta Ahmed, Office of Management and Budget, New Executive Office Building, Room 10235, Washington, DC 20503; (202) 395-7873.

FOR FURTHER INFORMATION CONTACT: Requests for additional information should be directed to the Consumer Financial Protection Bureau (Attention: PRA Office), 1700 G Street NW., Washington, DC 20552, (202) 435-9011 or through the Internet at CFPB_Public_PRA@cfpb.gov.

SUPPLEMENTARY INFORMATION:

Title: CFPB Office of Intergovernmental Affairs Outreach Activities.

OMB Number: 3170-00xx.

Type of Review: New generic collection.

Abstract: The Dodd-Frank Wall Street Reform and Consumer Protection Act (Dodd-Frank Act) contemplates that the Bureau will conduct outreach activities, as appropriate. See, e.g. 12 U.S.C. 5495; 12 U.S.C. 5512(c)(1), 12 U.S.C. 5493(d), 12 U.S.C. 5493(b)(2), 12 U.S.C. 5511(c)(6). The Bureau's Office of Intergovernmental Affairs seeks to conduct outreach by collecting information from state, local, and tribal governments related to the Bureau's exercise of its functions under the Dodd-Frank Act. These governments interact closely with consumers and are critical partners in promoting transparency and competition in the marketplace, preventing unfair and unlawfully discriminatory practices, and enforcing consumer financial laws.

The information collected through the Office of Intergovernmental Affairs Outreach Activities will be shared, as appropriate, within the Bureau in the exercise of its functions, such as the Bureau's financial education, rulemaking, market monitoring, outreach to traditionally underserved populations, fair lending monitoring, supervision, and enforcement functions.

The information collected may be used to form policies and programs presented to state, local, and tribal governments, as well as to other federal agencies and the general public. Nearly all information collection will involve the use of electronic communication or other forms of information technology and telephonic means.

The Bureau received one comment letter on the proposed collection from a coalition of cities committed to local action for financial empowerment and consumer protection. The comment supported the Bureau's proposal to formalize processes for information collection from local governments, noting that the proposed information collection would maximize efficiency of information sharing and minimize burden on cities. The letter recommended that the Bureau set up protocols to solicit information and develop a mechanism for local governments to provide information to the Bureau. The letter further recommended that the Bureau offer cities a distinct communication channel through which cities can obtain information from the Bureau and inform regulatory or enforcement actions. The Bureau notes that this regular and structured solicitation of information may help mitigate the effects of future ruptures in consumer financial markets by helping to facilitate effective monitoring of local markets for risks to consumers.

Affected Public: State, Local, or Tribal Governments.

Estimated Number of Responses: 1,600.

Estimated Time per Respondent: 2 hours.

Estimated Total Annual Burden Hours: 3,200.

An agency may not conduct or sponsor, and a person is not required to respond to, a collection of information unless the collection of information displays a valid OMB control number.

The Bureau issued a 60-day Federal Register notice on April 30, 2012, 77 FR 25438-39. Comments were solicited and continue to be invited on: (a) Whether the collection of information is necessary for the proper performance of the functions of the Bureau, including whether the information shall have practical utility; (b) the accuracy of the Bureau's estimate of the burden of the collection of information, including the validity of the methodology and the assumptions used; (c) ways to enhance the quality, utility, and clarity of the information to be collected; and (d) ways to minimize the burden of the collection of information on respondents, including through the use of automated collection techniques or other forms of information technology.

Approved: August 17, 2012.
Chris Willey,
Chief Information Officer, Bureau of Consumer Financial Protection.

[FR Doc. 2012-20700 Filed 8-22-12; 8:45 am]

BILLING CODE 4810-AM-P